DEPARTMENT OF THE INTERIOR

Fish and Wildlife Service

50 CFR Part 17

[Docket No. FWS-R2-ES-2012-0042; 4500030114]

RIN 1018-AX13

Endangered and Threatened Wildlife and Plants; Designation of Critical Habitat for the Jaguar

AGENCY: Fish and Wildlife Service, Interior.

ACTION: Proposed rule; reopening of the public comment period.

SUMMARY: We, the U.S. Fish and Wildlife Service (Service), announce the reopening of the public comment period on our August 20, 2012, proposed designation of critical habitat for the jaguar (Panthera onca), as revised on July 1, 2013, under the Endangered Species Act of 1973, as amended. This notice announces reopening of the comment period to allow all interested parties an additional opportunity to comment and submit information on the revised proposed rule, the draft economic analysis, and the draft environmental assessment. We will consider all comments and information provided by the public during this comment period in preparation of a final designation of critical habitat. Accordingly, the final designation may differ from our proposal. If you submitted comments previously, you do not need to resubmit them because we have already incorporated them into the public record and will fully consider them in preparation of the final rule.

DATES: The comment period for the proposed rule published August 20, 2012 (77 FR 50214), and revised July 1, 2013 (78 FR 39237) is reopened. We will consider comments received or postmarked on or before September 13, 2013. Comments submitted electronically using the Federal eRulemaking Portal (see ADDRESSES) must be received by 11:59 p.m. Eastern Time on the closing date.

ADDRESSES: Document availability: You may obtain copies of the proposed rule, the revisions of July 1, 2013, the draft economic analysis, and the draft environmental assessment on the Internet at http://www.regulations.gov at Docket No. FWS-R2-ES-2012-0042 or by mail from the Arizona Ecological Services Fish and Wildlife Office (see FOR FURTHER INFORMATION CONTACT).

Written comments: You may submit written comments by one of the following methods:

(1) Electronically: Go to the Federal eRulemaking Portal: http://www.regulations.gov. Submit comments by searching for FWS-R2-ES-2012-0042, which is the docket number for this rulemaking.

(2) By hard copy: Submit comments by U.S. mail or hand-delivery to: Public Comments Processing, Attn: FWS-R2-ES-2012-0042; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Steve Spangle, Field Supervisor, U.S. Fish and Wildlife Service, Arizona Ecological Services Fish and Wildlife Office, 2321 West Royal Palm Drive, Suite 103, Phoenix, AZ 85021; by telephone (602-242-0210); or by facsimile (602-242-2513). Persons who use a telecommunications device for the deaf (TDD) may call the Federal Information Relay Service (FIRS) at 800-877-8339.

SUPPLEMENTARY INFORMATION:

Background

On August 20, 2012, we published a proposed rule to designate critical habitat for the jaguar (77 FR 50214). That proposal had a 60-day comment period, ending October 19, 2012. On July 1, 2013, we published a revised proposal that incorporated new information received since the August 20, 2012, proposal (78 FR 39237). That revised proposal had a comment period that ended August 9, 2013. In the July 1, 2013, revised proposed rule, we proposed to designate approximately 858,137 acres (ac) (347,277 hectares (ha)) as critical habitat in six units located in Pima, Santa Cruz, and Cochise Counties, Arizona, and Hidalgo County, New Mexico. In the July 1, 2013, revised proposed rule, we also noticed the availability of a draft economic analysis and draft environmental assessment for public comment. We received requests for a public hearing, and a public hearing was held in Sierra Vista, Arizona, on July 30, 2013. We are now reopening a comment period on the August 20, 2012, proposed rule, as revised on July 1, 2013. Finally, pursuant to a court-approved settlement agreement, the Service agreed to deliver the final designation of critical habitat to the Federal Register no later than December 16, 2013.

Information Requested

We will accept written comments and information during this reopened comment period on our July 1, 2013, revised proposed rule to designate critical habitat for the jaguar (78 FR 39237), draft economic analysis, and draft environmental assessment. For more information on the specific information we are seeking, please see the July 1, 2013, revised proposed rule. You may submit your comments and materials concerning the proposed rules by one of the methods listed in ADDRESSES.

If you submitted comments or information on the proposed rule (77 FR 50214; August 20, 2012) during the initial comment period from August 20, 2012, to October 19, 2012; or the revised proposed rule (78 FR 39237; July 1, 2013) during the second comment period from July 1, 2013, to August 9, 2013, please do not resubmit them. We have incorporated them into the public record, and we will fully consider them in the preparation of our final rule. Further, any comments and information received after the closing of the second comment period on August 9, 2013, will be incorporated into the record during this comment period and will be fully considered. Our final determination concerning critical habitat will take into consideration all written comments and any additional information we receive during all three comment periods. On the basis of public comments and other relevant information, we may, during the development of our final determination on the proposed critical habitat designation, find that areas proposed are not essential, are appropriate for exclusion under section 4(b)(2) of the Act, or are not appropriate for exclusion.

You may submit your comments and materials concerning the revised proposed rule, draft economic analysis, or draft environmental assessment by one of the methods listed in the ADDRESSES section. We request that you send comments only by the methods described in the ADDRESSES section.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the revised proposed rule, draft economic analysis, and draft environmental assessment, will be available for public inspection on http://www.regulations.gov at Docket No. FWS-R2-ES-2012-0042, or by appointment, during normal business hours, at the U.S. Fish and Wildlife Service, Arizona Ecological Services Fish and Wildlife Office (see FOR FURTHER INFORMATION CONTACT). You may obtain copies of the original proposed rule, the revisions published on July 1, 2013, the draft economic analysis, and the draft environmental assessment on the Internet at http://www.regulations.gov at Docket Number FWS-R2-ES-2012-0042, or by mail from the Arizona Ecological Services Fish and Wildlife Office (see FOR FURTHER INFORMATION CONTACT).

Authors

The primary authors of this notice are the staff members of the Arizona Ecological Services Fish and Wildlife Office, Southwest Region, U.S. Fish and Wildlife Service.

Authority

The authority for this action is the Endangered Species Act of 1973, as amended (16 U.S.C. 1531 et seq.).

Dated: August 21, 2013.
Stephen Guertin,
Acting Director, U.S. Fish and Wildlife Service.

[FR Doc. 2013-21168 Filed 8-28-13; 8:45 am]

BILLING CODE 4310-55-P